DEPARTMENT OF AGRICULTURE

Farm Service Agency

[Docket No. FSA-2023-0010]

Information Collection Request; Power of Attorney

AGENCY: Farm Service Agency, USDA.

ACTION: Notice; request for comments.

SUMMARY: In accordance with the Paperwork Reduction Act requirement, the Farm Service Agency (FSA) is requesting comments from all interested individuals and organizations on an extension and a revision of a currently approved information collection associated with the form of the Power of Attorney. This information collection is used to support the FSA, Commodity Credit Corporation (CCC), Natural Resources Conservation Service (NRCS), Federal Crop Insurance Corporation (FCIC) and Risk Management Agency (RMA) in conducting business and accepting signatures on certain documents from individuals acting on behalf of other individuals or entities.

DATES: We will consider comments that we receive by July 3, 2023.

ADDRESSES: We invite you to submit comments on this notice. You may submit comments, identified by Docket ID: FSA-2023-0010 in the Federal eRulemaking Portal: Go to http://www.regulations.gov. Follow the online instructions for submitting comments.

You may also send comments to the Desk Officer for Agriculture, Office of Information and Regulatory Affairs, Office of Management and Budget, Washington, DC 20503. Copies of the information collection may be requested by contacting Jody Kenworthy.

FOR FURTHER INFORMATION CONTACT: Jody Kenworthy; by telephone: 202-290-4230; or by email: jody.kenworthy@usda.gov. Individuals who require alternative means for communication should contact the USDA TARGET Center at (202) 720-2600 (voice and text telephone (TTY)) or dial 711 for Telecommunications Relay service (both voice and text telephone users can initiate this call from any telephone).

SUPPLEMENTARY INFORMATION:

Title: Power of Attorney.

OMB Control Number: 0560-0190.

Expiration Date of Approval: August 31, 2023.

Type of Request: Revision and extension.

Abstract: Individuals or entities that want to appoint another to act as an attorney-in-fact in connection with certain FSA, CCC, NRCS, FCIC, and RMA programs and related actions must complete a form of FSA-211, Power of Attorney form. The form is used by a grantor to appoint another to act on the individual's or entity's behalf for certain FSA, CCC, NRCS, FCIC and RMA programs or other specific actions, giving the appointee legal authority to enter into certain programs, agreements, or contracts, or other specific actions on the grantor's behalf. The form also provides FSA, CCC, NRCS, FCIC and RMA a source to verify an individual's authority to sign and act for another in the event of errors or fraud. The information collected on the form is limited to grantor's name, signature and identification number, the grantee's address, and the applicable FSA, CCC, NRCS, FCIC and RMA programs or transactions.

The burden hours in this collection increased by 1,526 hours since the last OMB approval. The reason for the increase in hours is due to the increase in FSA customers during the pandemic. The increase in customers is due to the multiple pandemic programs that provided help to producers who were not normally covered by FSA programs.

For the following estimated total annual burden on respondents, the formula used to calculate the total burden hours is the estimated average time per responses multiplied by the estimated total annual of responses.

Estimate of Average Time To Respond: Public reporting burden for collecting information under this notice is estimated to average 0.4843 minutes per response, including the time for reviewing instructions, searching existing data sources, gathering and maintaining the data needed, and completing and reviewing the collection of information.

Type of Respondents: Individuals and households.

Estimated Number of Respondents: 16,000.

Estimated Average Number of Responses per Respondent: 1.

Estimated Total Annual Responses: 16,000.

Estimated Average Time per Response: 0.4843.

Estimated Total Annual Burden on Respondents: 7,750 hours.

FSA is requesting comments on all aspects of this information collection to help us to:

(1) Evaluate whether the proposed collection of information is necessary for the proper performance of the functions of the agency, including whether the information will have practical utility;

(2) Evaluate the accuracy of the agency's estimate of burden of the collection of information including the validity of the methodology and assumptions used;

(3) Evaluate the quality, utility and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval.

Zach Ducheneaux,
Administrator, Farm Service Agency.

[FR Doc. 2023-09213 Filed 5-1-23; 8:45 am]

BILLING CODE 3410-05-P